DEPARTMENT OF ENERGY

Western Area Power Administration

[DOE/EIS-0461]

Notice of Cancellation of Environmental Impact Statement for the Proposed Hyde County Wind Energy Center Project, Hyde County, SD

AGENCY: Western Area Power Administration, DOE.

ACTION: Notice of Cancellation of Environmental Impact Statement.

SUMMARY: The U.S. Department of Energy (DOE), Western Area Power Administration (Western) is issuing this notice to advise the public that it is cancelling the preparation of an Environmental Impact Statement (EIS) under the National Environmental Policy Act (NEPA) on an interconnection request by NextEra Energy Resources (NextEra).

DATES: This cancellation is effective on October 19, 2011.

FOR FURTHER INFORMATION CONTACT: For additional information on the cancellation of this EIS process, contact Matt Marsh, NEPA Document Manager, Upper Great Plains Regional Office, Western Area Power Administration, P.O. Box 35800, Billings, MT 59107-5800, e-mail MMarsh@wapa.gov, telephone (800) 358-3415. For general information on DOE's NEPA review process, contact Carol M. Borgstrom, Director of NEPA Policy and Compliance, GC-54, Department of Energy, 1000 Independence Avenue, SW., Washington, DC 20585-0119, telephone (202) 586-4600 or (800) 472-2756, facsimile (202) 586-7031.

SUPPLEMENTARY INFORMATION: NextEra proposed to design, construct, operate, and maintain a 150-megawatt Hyde County Wind Energy Center Project (Project) in Hyde County, South Dakota, and interconnect that Project with Western's transmission system. NextEra's interconnection request caused Western to initiate a NEPA review of its action to allow the interconnection. Western published a Notice of Intent for the EIS in the Federal Register on November 30, 2010 (75 FR 74040), and started the EIS process. A public scoping meeting was held subsequent to the Notice of Intent, but a Draft EIS was not produced because NextEra decided to suspend further action on its proposed Project. NextEra notified Western of its decision, and Western is now terminating the NEPA review process on its interconnection decision and NextEra's proposed Project. NextEra could decide to reinitiate the proposed Project at some future date. In that event Western would issue a new Notice of Intent, and would start an entirely new NEPA process.

The Assistant Secretary, Environment, Safety, and Health granted approval authority to Western's Administrator for EISs related to integrating major new sources of generation in a October 4, 1999, memorandum. Under the authority granted by that memorandum, I have terminated the NEPA process for NextEra's proposed Hyde County Wind Energy Center Project with the publication of this notice.

Dated: October 11, 2011.
Timothy J. Meeks,
Administrator.

[FR Doc. 2011-27046 Filed 10-18-11; 8:45 am]

BILLING CODE 6450-01-P